DEPARTMENT OF ENERGY

Federal Energy Regulatory Commission

[Docket No. EL00-78-000]

Baconton Power LLC; Notice of Filing

May 25, 2000.

Take notice that on May 17, 2000, Baconton Power LLC tendered for filing a request for waiver of the Commission's open access transmission tariff and OASIS requirements to the extent required in connection with Baconton Power LLC's ownership of interconnection facilities (generation step-up transformers and an undivided common interest in certain common bus facilities) located at the plan site where Baconton's four 50 MW summer nominal capacity generators are being constructed.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14130 Filed 6-5-00; 8:45 am]

BILLING CODE 6717-01-M